NATIONAL SCIENCE FOUNDATION

Committee on Equal Opportunities in Science and Engineering; Notice of Meeting

In accordance with the Federal Advisory Committee Act (Pub. L. 92-463, as amended), the National Science Foundation announces the following meeting:

Name: Committee on Equal Opportunities in Science and Engineering (1173).

Dates/Time: June 13, 2011, 9 a.m.-4:30 p.m. June 14, 2011, 9 a.m.-2 p.m.

Places: June 13, 2011, The White House Conference Center, 726 Jackson Place, NW., Washington, DC 20006.

June 14, 2011, National Science Foundation (NSF), 4201 Wilson Boulevard, Arlington, VA 22230.

To help facilitate your entry into the buildings, contact the individual listed below. Your request to attend this meeting must be received by e-mail on or prior to June 6, 2011.

Type of Meeting: Open.

Contact Person: Dr. Margaret E.M. Tolbert, Senior Advisor and CEOSE Executive Liaison, Office of Integrative Activities, National Science Foundation, 4201 Wilson Boulevard, Arlington, VA 22230 Telephone Numbers: (703) 292-4216, 703-292-8040; mtolbert@nsf.gov.

Minutes: Meeting minutes and other information may be obtained from the Executive Liaison at the above address or the Web site at: http://www.nsf.gov/od/oia/activities/ceose/index.jsp.

Purpose of Meeting: To study data, programs, policies, and other information pertinent to the National Science Foundation and to provide advice and recommendations concerning broadening participation in science and engineering.

Agenda

Monday, June 13, 2011

Opening Statement by the CEOSE Chair

Presentations and Discussions:

• Concurrence on the CEOSE Minutes of the February 8-9, 2011 Meeting.

• Presentation of Key Points from the Meeting among the National Science Foundation Director and CEOSE officers.

• Discussion of Plans for Meeting with OSTP and NSF Officials and Representatives of Other Federal Agencies.

• Discussion of CEOSE Membership.

• Presentation on “Setting the Stage for Joining Forces on Broadening Participation in STEM”.

• An OSTP and NSF sponsored CEOSE Discussion on “Inter-Agency Collaborations to Broaden Participation in STEM” with Members of the NSTC Committee on Science.

Tuesday, June 14, 2011

Opening Statement by the CEOSE Chair

Presentations, Discussions, and Reports:

• Briefing on the June 13th CEOSE Meeting Session.

• Presentation “Walking in Beauty on an Ever-changing Path—A Native Woman Engineer's Perspective” by the CEOSE First Vice Chair and Recognition for Service to CEOSE, 2005 to 2011.

• Presentation “The Science and Engineering Equal Opportunities Act: A Progress Report” by Senior Analyst (Retired), NCSES/SBE/NSF, and Recognition for Service to CEOSE.

• Reports on NSF Advisory Committee Meetings by CEOSE Liaisons.

• Completion of Unfinished Business.

Dated: May 25, 2011.
Susanne Bolton,
Committee Management Officer.

[FR Doc. 2011-13399 Filed 5-31-11; 8:45 am]

BILLING CODE 7555-01-P